DEPARTMENT OF ENERGY

Federal Energy Regulatory Commission

Combined Notice of Filings #1

Take notice that the Commission received the following electric corporate filings:

Docket Numbers: EC22-71-000.

Applicants: Canal Generating LLC, Canal 3 Generating LLC, Bucksport Generation LLC, Stonepeak Kestrel Energy Marketing LLC.

Description: Joint Application for Authorization Under Section 203 of the Federal Power Act of Canal Generating LLC, et al.

Filed Date: 6/1/22.

Accession Number: 20220601-5359.

Comment Date: 5 p.m. ET 6/22/22.

Take notice that the Commission received the following electric rate filings:

Docket Numbers: ER20-2341-003.

Applicants: Midcontinent Independent System Operator, Inc.

Description: Compliance filing: 2022-06-02_SA 3518 Deficiency Response ITC Midwest-Interstate Sub FSA (J416) to be effective 7/1/2020.

Filed Date: 6/2/22.

Accession Number: 20220602-5067.

Comment Date: 5 p.m. ET 6/23/22.

Docket Numbers: ER20-2382-003.

Applicants: Midcontinent Independent System Operator, Inc.

Description: Compliance filing: 2022-06-02_SA 3516 Deficiency Response Ameren-Broadlands 2nd Sub FSA GIA (J468) to be effective 10/1/2020.

Filed Date: 6/2/22.

Accession Number: 20220602-5065.

Comment Date: 5 p.m. ET 6/23/22.

Docket Numbers: ER20-2385-002.

Applicants: Midcontinent Independent System Operator, Inc.

Description: Compliance filing: 2022-06-02_SA 3025 Deficiency Response Ameren-Broadland Sub 1st Rev FCA (J468) to be effective 7/9/2020.

Filed Date: 6/2/22.

Accession Number: 20220602-5058.

Comment Date: 5 p.m. ET 6/23/22.

Docket Numbers: ER20-2386-002.

Applicants: Midcontinent Independent System Operator, Inc.

Description: Compliance filing: 2022-06-02_SA 3024 Deficiency Response Broadlands-Ameren Sub 2nd Rev GIA (J468) to be effective 7/9/2020.

Filed Date: 6/2/22.

Accession Number: 20220602-5063.

Comment Date: 5 p.m. ET 6/23/22.

Docket Numbers: ER20-2408-003.

Applicants: Midcontinent Independent System Operator, Inc.

Description: Compliance filing: 2022-06-02_SA 3524 Deficiency Response Ameren-Broadlands 2nd Sub FSA (J468) to be effective 10/1/2020.

Filed Date: 6/2/22.

Accession Number: 20220602-5054.

Comment Date: 5 p.m. ET 6/23/22.

Docket Numbers: ER21-57-000.

Applicants: Shell Energy North America (US), L.P.

Description: Refund Report: Refund Report to be effective N/A.

Filed Date: 6/2/22.

Accession Number: 20220602-5145.

Comment Date: 5 p.m. ET 6/23/22.

Docket Numbers: ER22-2009-000.

Applicants: Duke Energy Progress, LLC.

Description: § 205(d) Rate Filing: DEP—Excel—Generation Replacement Coordinator Agreement RS No. 404 to be effective 8/1/2022.

Filed Date: 6/1/22.

Accession Number: 20220601-5267.

Comment Date: 5 p.m. ET 6/22/22.

Docket Numbers: ER22-2011-000.

Applicants: Duke Energy Carolinas, LLC.

Description: § 205(d) Rate Filing: DEC-Excel Generation Replacement Coordinator Agreements RS No. 588 to be effective 8/1/2022.

Filed Date: 6/1/22.

Accession Number: 20220601-5274.

Comment Date: 5 p.m. ET 6/22/22.

Docket Numbers: ER22-2012-000.

Applicants: AEP Texas Inc.

Description: § 205(d) Rate Filing: AEPTX-Monte Alto Windpower 5th A&R Generation Interconnection Agreement to be effective 5/6/2022.

Filed Date: 6/2/22.

Accession Number: 20220602-5052.

Comment Date: 5 p.m. ET 6/23/22.

Docket Numbers: ER22-2013-000.

Applicants: AEP Texas Inc.

Description: § 205(d) Rate Filing: AEPTX-House Mountain 1st A&R Generation Interconnection Agreement to be effective 5/9/2022.

Filed Date: 6/2/22.

Accession Number: 20220602-5057.

Comment Date: 5 p.m. ET 6/23/22.

Docket Numbers: ER22-2015-000.

Applicants: Tampa Electric Company.

Description: Tampa Electric Company submitted a Motion Requesting Waiver of The Formula Rate Implementation with Shortened Comment Period Request under ER22-2015.

Filed Date: 5/27/22.

Accession Number: 20220527-5369.

Comment Date: 5 p.m. ET 6/6/22.

Docket Numbers: ER22-2016-000.

Applicants: Louisiana Energy and Power Authority.

Description: Request to Recover Costs Associated with Acting as a Local Balancing Authority of Louisiana Energy and Power Authority.

Filed Date: 6/2/22.

Accession Number: 20220602-5108.

Comment Date: 5 p.m. ET 6/23/22.

Docket Numbers: ER22-2017-000.

Applicants: PacifiCorp.

Description: § 205(d) Rate Filing: Dugway Non-Conforming Amended SGIA to be effective 8/2/2022.

Filed Date: 6/2/22.

Accession Number: 20220602-5114.

Comment Date: 5 p.m. ET 6/23/22.

Docket Numbers: ER22-2018-000.

Applicants: California Independent System Operator Corporation.

Description: § 205(d) Rate Filing: 2022-06-02 Interconnection Process Enhancements Tariff Amendment to be effective 9/1/2022.

Filed Date: 6/2/22.

Accession Number: 20220602-5133.

Comment Date: 5 p.m. ET 6/23/22.

Docket Numbers: ER22-2019-000.

Applicants: Manchief Power Company LLC.

Description: Tariff Amendment: Notice of Cancellation to be effective 6/3/2022.

Filed Date: 6/2/22.

Accession Number: 20220602-5141.

Comment Date: 5 p.m. ET 6/23/22.

Take notice that the Commission received the following qualifying facility filings:

Docket Numbers: QF22-683-000.

Applicants: Saint-Gobain Abrasives.

Description: Form 556 of Saint-Gobain Abrasives.

Filed Date: 6/1/22.

Accession Number: 20220601-5228.

Comment Date: 5 p.m. ET 6/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2022.
Debbie-Anne A. Reese,
Deputy Secretary.

[FR Doc. 2022-12331 Filed 6-7-22; 8:45 am]

BILLING CODE 6717-01-P